DEPARTMENT OF THE INTERIOR

Bureau of Land Management

[WY-957-08-1420-BJ-TRST]

Notice of Filing of Plats of Survey, Nebraska

AGENCY: Bureau of Land Management, Interior.

SUMMARY: The Bureau of Land Management (BLM) is scheduled to file the plats of survey of the lands described below thirty (30) calendar days from the date of this publication in the BLM Wyoming State Office, Cheyenne, Wyoming.

FOR FURTHER INFORMATION CONTACT: Bureau of Land Management, 5353 Yellowstone Road, P.O. Box 1828, Cheyenne, Wyoming 82003.

SUPPLEMENTARY INFORMATION: These surveys were executed at the request of the Bureau of Indian Affairs and are necessary for the management of these lands. The lands surveyed are:

The plats and field notes representing the dependent resurvey of portions of the subdivisional lines, subdivision of certain sections, and adjusted original 1867 meanders of the right bank of the Missouri River, and the survey of the subdivision of certain sections and the meander of a portion of the current right bank of the Missouri River, Township 26 North, Range 9 East, of the Sixth Principal Meridian, Nebraska, Group No. 161 was accepted April 03, 2008.

The plats and field notes representing the dependent resurvey of the Treaty Boundary of March 8, 1865, through Range 9 East., portions of the north boundary, subdivisional lines, subdivision of certain sections, and adjusted 1875 meanders of the Old (Impassable) Slough and right bank of the Missouri River, and the corrective dependent resurvey of portions of the subdivisional lines and subdivision of certain sections, and the survey of the subdivision of certain sections, Township 26 North, Range 9 East, of the Sixth Principal Meridian, Nebraska, Group No. 159 was accepted April 28, 2008.

Copies of the preceding described plat and field notes are available to the public at a cost of $1.10 per page.

Dated: April 29, 2008.
John P. Lee,
Chief Cadastral Surveyor, Division of Support Services.

[FR Doc. E8-9784 Filed 5-2-08; 8:45 am]

BILLING CODE 4467-22-P